DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of December 2005.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either:

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of section 222 have been met.

TA-W-57,929; Sappi Fine Paper, N.A., S.D. Warren Company, Muskegon, MI: September 14, 2004.

TA-W-58,045; Lexel Company, A Division of Mamco Corporation, Including Leased Workers of Westaff, Inc., Hutsonville, IL: August 8, 2005.

TA-W-58,111; Fashion Dye Works, Inc., Ridgewood, NY: September 28, 2004.

TA-W-58,126; GDX Automotive, Adecco and Ablest, Salisbury, NC: October 12, 2004.

TA-W-58,169; Motorola, Inc., Schaumburg, IL: September 21, 2004.

TA-W-58,193; Goodman Veneer and Lumber, A Subsidiary of Besse Forest Products, Goodman, WI: October 21, 2004.

TA-W-58,197; Flynn Enterprises, LLC, Elkton Div., Elkton, KY: October 20, 2004.

TA-W-58,210; Tooling Science, Maple Grove, MN: October 25, 2004.

TA-W-58,218; Encad, Inc., A Kodak Company, San Diego, CA: October 26, 2004.

TA-W-58,219; Woodline Productions, Medford, OR: October 25, 2004.

TA-W-58,222; Ansonia Copper and Brass, Inc., Ansonia, CT: October 26, 2004.

TA-W-58,222A; Ansonia Copper and Brass, Inc., Waterbury, CT: October 26, 2004.

TA-W-58,231; Peak Oilfield Services, Workers at Agrium U.S., Kenai, AK: October 27, 2004.

TA-W-58,232; Farris Fashions, Inc., Brinkley, AR: October 28, 2004.

TA-W-58,254; WestPoint Home (formerly Westpoint Stevens, Inc.), Basic Bedding Div., Biddeford, ME: October 26, 2004.

TA-W-58,259; U.S. Union Tool, Inc., Buena Park, CA:November 2, 2004.

TA-W-58,262; Shuford Mills, LLC., Shurspun, Hudson, NC: November 2, 2004.

The following certifications have been issued. The requirements of (a)(2)(B) (shift in production) of section 222 have been met.

TA-W-57,889; Telex Communications, Inc., Blue Earth Manufacturing Facility, Blue Earth, MN: September 6, 2004.

TA-W-58,209; Carolina Steele Products, Inc., Gastonia, NC: October 22, 2004.

TA-W-58,239; Savcor Coatings, Ltd., Fort Worth Div., Westaff, Prostaff, Verion & V & S, Ft. Worth, TX: October 27, 2004.

TA-W-58,240; GST AutoLeather, Hagerstown, MD: October 31, 2004.

TA-W-58,271; Cargill Sweeteners North America, Div. of Cargill, Inc., Decatur, AL: November 2, 2004.

TA-W-58,297; Revcor Molded Products, Revcor Companies, Haltom City, TX: November 3, 2004.

TA-W-58,365; Phoenix Mecano, Inc., Romney, WV: November 15, 2004.

TA-W-58,410; SKF Sealing Solutions, SKF Automotive Div., Springfield, SD: November 23, 2004.

The following certification has been issued. The requirement of supplier to a trade certified firm has been met.

TA-W-58,204; Bethel Furniture Stock, Inc., Bethel, ME: September 26, 2004.

TA-W-58,290; Collins and Aikman, Lowell, MA: November 7, 2004.

TA-W-58,337; Cone Denim, LLC, Cone Rutherford County Div., Cliffside, NC: December 4, 2005.

The following certification has been issued. The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,267; G and G Hosiery, Fort Payne, AL.

TA-W-58,323; Lala Ellen Knitting, Fort Payne, AL.

The investigation revealed that criteria (a)(2)(A)(I.B.) (Sales or production, or both, did not decline) and (a)(2)(B)(II.B) (No shift in production to a foreign country) have not been met.

TA-W-58,224; Eaton Hydraulics, Inc., Fluid Power-Hydraulics Div., Jackson, MI.

The investigation revealed that criteria (a)(2)(A)(I.C.) (increased imports) and (a)(2)(B)(II.B) (No shift in production to a foreign country) have not been met.

TA-W-58,217; Carolina Mills, Inc., Plant No. 9, Valdese, NC.

TA-W-58,238; Eaton Corporation, Automotive-Engine Air Management Operations Division, Saginaw, MI.

TA-W-58,255; DRS Signal Solutions West, DRS Technologies, Inc., Morgan Hill, CA.

TA-W-58,269; Easthampton Dye Works, Inc., Easthampton, MA.

TA-W-58,132; Tibbetts Industries, Inc., Camden, ME.

TA-W-58230; IBM—Integrated Supply Chain, 3605 Highway 52 North, Rochester, MN.

The investigation revealed that criteria (a)(2)(A)(I.C.) (Increased imports and (a)(2)(B)(II.C) (has shifted production to a foreign country) have not been met.

The workers firm does not produce an article as required for certification under section 222 of the Trade Act of 1974.

TA-W-58,316; Prewett Mills Distribution Center, Fort Payne, AL.

TA-W-58,317; Prewett Hosiery Sales Corporation, Fort Payne, AL.

The investigation revealed that criteria (2) has not been met. The workers firm (or subdivision) is not a supplier or downstream producer to trade-affected companies.

TA-W-58,223; Alsco American Industrial Service, Portland, OR.

Affirmative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-57,929; Sappi Fine Paper, N.A., S.D. Warren Company, Muskegon, MI: September 14, 2004.

TA-W-58,231; Peak Oilfield Services, Workers at Agrium U.S., Kenai, AK: October 27, 2004.

TA-W-58,259; U.S. Union Tool, Inc., Buena Park, CA: November 2, 2004.

TA-W-58,045; Lexel Company, A Division of Mamco Corporation, Including Leased Workers of Westaff, Inc., Hutsonville, IL: August 8, 2005.

TA-W-58,126; GDX Automotive, Adecco and Ablest, Salisbury, NC: October 12, 2004.

TA-W-58,197; Flynn Enterprises, LLC, Elkton Div., Elkton, KY: October 20, 2004.

TA-W-58,210; Tooling Science, Maple Grove, MN: October 25, 2004.

TA-W-58,218; Encad, Inc., A Kodak Company, San Diego, CA: October 26, 2004.

TA-W-58,222; Ansonia Copper and Brass, Inc., Ansonia, CT: October 26, 2004.

TA-W-58,222A; Ansonia Copper and Brass, Inc., Waterbury, CT: October 26, 2004.

TA-W-58,232; Farris Fashions, Inc., Brinkley, AR: October 28, 2004.

TA-W-58,254; WestPoint Home (formerly Westpoint Stevens, Inc.), Basic Bedding Div., Biddeford, ME: October 26, 2004.

TA-W-58,262; Shuford Mills, LLC., Shurspun, Hudson, NC: November 2, 2004.

TA-W-58,111; Fashion Dye Works, Inc., Ridgewood, NY: September 28, 2004.

TA-W-58,219; Woodline Productions, Medford, OR: October 25, 2004.

TA-W-58,239; Savcor Coatings, Ltd., Fort Worth Div., Westaff, Prostaff, Verion & V & S, Ft. Worth, TX: October 27, 2004.

TA-W-58,240; GST AutoLeather, Hagerstown, MD: October 31, 2004.

TA-W-58,271; Cargill Sweeteners North America, Div. of Cargill, Inc., Decatur, AL: November 2, 2004.

TA-W-58,410; SKF Sealing Solutions, SKF Automotive Div., Springfield, SD: November 23, 2004.

TA-W-57,889; Telex Communications, Inc., Blue Earth Manufacturing Facility, Blue Earth, MN: September 6, 2004.

TA-W-58,365; Phoenix Mecano, Inc., Romney, WV: November 15, 2004.

TA-W-58,209; Carolina Steele Products, Inc., Gastonia, NC: October 22, 2004.

TA-W-58,204; Bethel Furniture Stock, Inc., Bethel, ME: September 26, 2004.

TA-W-58,290; Collins and Aikman, Lowell, MA: November 7, 2004.

TA-W-58,337; Cone Denim, LLC, Cone Rutherford County Div., Cliffside, NC: December 4, 2005.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,253; G and H Custom Cabinets, Seagrove, NC.

TA-W-58,267; G and G Hosiery, Fort Payne, AL.

TA-W-58,224; Eaton Hydraulics, Inc., Fluid Power-Hydraulics Div., Jackson, MI.

TA-W-58,217; Carolina Mills, Inc., Plant No. 9, Valdese, NC.

TA-W-58,238; Eaton Corporation, Automotive-Engine Air Management Operations Division, Saginaw, MI.

TA-W-58,255; DRS Signal Solutions West, DRS Technologies, Inc., Morgan Hill, CA.

TA-W-58,269; Easthampton Dye Works, Inc., Easthampton, MA.

TA-W-58,132; Tibbetts Industries, Inc., Camden, ME.

TA-W-58,316; Prewett Mills Distribution Center, Fort Payne, AL.

TA-W-58,317; Prewett Hosiery Sales Corporation, Fort Payne, AL.

TA-W-58,223; Alsco American Industrial Service, Portland, OR.

TA-W-58,193; Goodman Veneer and Lumber, A Subsidiary of Besse Forest Products, Goodman, WI:

TA-W-58,361; Sheet Metal Workers Union Local 483, Morrison, TN.

The Department has determined that criterion (1) of Section 246 has not been met. Workers at the firm are 50 years of age or older.

None.

The Department as determined that criterion (2) of section 246 has not been met. Workers at the firm possess skills that are easily transferable.

TA-W-58,297; Revcor Molded Products, Revcor Companies, Haltom City, TX.

The Department has determined that criterion (3) of Section 246 has not been met. Competition conditions within the workers' industry are not adverse.

None.

I hereby certify that the aforementioned determinations were issued during the month of December 2005. Copies of these determinations are available for inspection in Room C-5311, U.S. Department of Labor, 200 Constitution Avenue, NW., Washington, DC 20210 during normal business hours or will be mailed to persons who write to the above address.

Dated: December 15, 2005.
Erica R. Cantor,
Director, Division of Trade Adjustment Assistance.

[FR Doc. E5-7603 Filed 12-20-05; 8:45 am]

BILLING CODE 4510-30-P